DEPARTMENT OF HEALTH AND HUMAN SERVICES

Food and Drug Administration

21 CFR Part 101

Food Labeling

CFR Correction

This rule is being published by the Office of the Federal Register to correct an editorial or technical error that appeared in the most recent annual revision of the Code of Federal Regulations.

In Title 21 of the Code of Federal Regulations, Parts 100 to 169, revised as of April 1, 2021, in § 101.36, reinstate paragraph (e)(11)(viii) as follows:

§ 101.36 Nutrition labeling of dietary supplements.

* * * * *

(e) * * *

(11) * * *

* * * * *

[FR Doc. 2022-06495 Filed 3-24-22; 8:45 am]

BILLING CODE 0099-10-P